DEPARTMENT OF TRANSPORTATION

Federal Aviation Administration

14 CFR Part 73

[Docket No. FAA-2005-20616; Airspace Docket No. 05-ANM-04]

RIN 2120-AA66

Proposed Amendment to Restricted Area 2211 Blair Lakes; AK

AGENCY: Federal Aviation Administration (FAA), DOT.

ACTION: Notice of proposed rulemaking (NPRM).

SUMMARY: This action proposes to raise the ceiling of Restricted Area 2211 (R-2211), Blair Lakes, AK, from the current 18,000 feet above mean sea level (MSL) to Flight Level (FL) 310. The expanded airspace is required to fulfill United States Air Force (USAF) training requirements. The current restricted airspace at Blair Lakes is too small to allow aircrew training in high altitude weapons delivery tactics. Specifically, the training requirements call for practicing the release of weapons from higher altitudes than are currently available within the existing restricted airspace.

DATES: Comments must be received on or before May 12, 2005.

ADDRESSES: Send comments on this proposal to the Docket Management System, U.S. Department of Transportation, Room Plaza 401, 400 Seventh Street, SW., Washington, DC 20590-0001. You must identify FAA Docket No. FAA-2005-20616 and Airspace Docket No. 05-ANM-04, at the beginning of your comments. You may also submit comments through the Internet at http://dms.dot.gov.

FOR FURTHER INFORMATION CONTACT: Ken McElroy, Airspace and Rules, Office of System Operations and Safety, Federal Aviation Administration, 800 Independence Avenue, SW., Washington, DC 20591; telephone: (202) 267-8783.

SUPPLEMENTARY INFORMATION:

Comments Invited

Interested parties are invited to participate in this proposed rulemaking by submitting such written data, views, or arguments, as they may desire. Comments that provide the factual basis supporting the views and suggestions presented are particularly helpful in developing reasoned regulatory decisions on the proposal. Comments are specifically invited on the overall regulatory, aeronautical, economic, environmental, and energy-related aspects of the proposal.

Communications should identify both docket numbers (FAA Docket No. FAA-2005-20616 and Airspace Docket No. 05-ANM-04) and be submitted in triplicate to the Docket Management System (see ADDRESSES section for address and phone number). You may also submit comments through the Internet at http://dms.dot.gov.

Commenters wishing the FAA to acknowledge receipt of their comments on this action must submit with those comments a self-addressed, stamped postcard on which the following statement is made: “Comments to FAA Docket No. FAA-2005-20616 and Airspace Docket No. 05-ANM-04.” The postcard will be date/time stamped and returned to the commenter.

All communications received on or before the specified closing date for comments will be considered before taking action on the proposed rule. The proposal contained in this action may be changed in light of comments received. All comments submitted will be available for examination in the public docket both before and after the closing date for comments. A report summarizing each substantive public contact with FAA personnel concerned with this rulemaking will be filed in the docket.

Availability of NPRM's

An electronic copy of this document may be downloaded through the Internet at http://dms.dot.gov. Recently published rulemaking documents can also be accessed through the FAA's Web page at http://www.faa.gov or the Federal Register's Web page at http://www.gpoaccess.gov/fr/index.html.

You may review the public docket containing the proposal, any comments received, and any final disposition in person in the Dockets Office (see ADDRESSES section for address and phone number) between 9 a.m. and 5 p.m., Monday through Friday, except Federal holidays. An informal docket may also be examined during normal business hours at the office of the Regional Air Traffic Division, Federal Aviation Administration, 1601 Lind Avenue, #14, SW., Renton, WA 98055.

Persons interested in being placed on a mailing list for future NPRM's should contact the FAA's Office of Rulemaking, (202) 267-9677, for a copy of Advisory Circular No. 11-2A, Notice of Proposed Rulemaking Distribution System, which describes the application procedure.

Background

The existing R-2211, at Blair Lakes, AK, extends from the surface up to 18,000 feet MSL. The USAF has proposed raising the ceiling of the area because the existing restricted airspace is too small to permit essential aircrew training in the tactics used in recent real-world engagements. The current 18,000-foot MSL upper limit of the area is not sufficient to satisfy high altitude weapons release training requirements.

The Proposal

The FAA is proposing to amend Title 14 Code of Federal Regulations (14 CFR) part 73 (part 73) to modify R-2211 by raising the ceiling from 18,000 feet MSL to FL 310. The current restricted airspace at Blair Lakes is too small to allow aircrew training in high altitude weapons delivery tactics. The purpose of the proposed expansion of R-2211 is to accommodate high altitude, high angle weapons delivery training to fulfill USAF training requirements.

The FAA has determined that this proposed regulation only involves an established body of technical regulations for which frequent and routine amendments are necessary to keep them operationally current. Therefore, this proposed regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to the appropriate environmental analysis in accordance with FAA Order 1050.1D, Policies and Procedures for Considering Environmental Impacts, prior to any FAA final regulatory action.

List of Subjects in 14 CFR Part 73

Airspace, Navigation (air).

The Proposed Amendment

In consideration of the foregoing, the Federal Aviation Administration proposes to amend 14 CFR part 73 as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.22 [Amended]

2. Section 73.22 is amended as follows:

* * * * *

R-2211 Blair Lakes, AK [Amended]

Boundaries. Beginning at lat. 64°29′58″ N., long. 147°44′09″ W.; to lat. 64°19′58″ N., long. 147°19′09″ W.; to lat. 64°13′28″ N., long. 147°32′08″ W.; to lat. 64°22′28″ N., long. 147°58′09″ W.; to the point of beginning.

Time of designation. 0800 to 1800, local Monday through Friday, other times by NOTAM.

Designated altitude. Surface to FL310.

Controlling agency. FAA, Fairbanks Approach Control.

Using agency. U.S. Air Force, 354th Fighter Wing, Eielson AFB, AK.

* * * * *

Issued in Washington, DC, March 22, 2005.
Edith V. Parish,
Acting Manager, Airspace and Rules.

[FR Doc. 05-5965 Filed 3-25-05; 8:45 am]

BILLING CODE 4910-13-P